OFFICE OF THE UNITED STATES TRADE REPRESENTATIVE

Request for Comments Concerning Proposed Trans-Pacific Partnership Trade Agreement

AGENCY: Office of the United States Trade Representative (USTR).

ACTION: Notice of intent to enter into negotiations on a Trans-Pacific Partnership (TPP) trade agreement and request for comments.

SUMMARY: The United States intends to enter into negotiations on a TPP trade agreement with the objective of shaping a high-standard, broad-based regional agreement. USTR is seeking public comments on all elements of the agreement in order to develop U.S. negotiating positions.

DATES: Written comments are due by January 25, 2010.

ADDRESSES: Submissions via on-line: http://www.regulations.gov. For alternatives to on-line submissions please contact Gloria Blue, Executive Secretary, Trade Policy Staff Committee (TPSC), at (202) 395-3475.

FOR FURTHER INFORMATION CONTACT: For procedural questions concerning written comments, please contact Gloria Blue at the above number. All other questions regarding the TPP trade agreement should be directed to David Bisbee, Deputy Assistant USTR for Southeast Asia and Pacific, at (202) 395-6813.

SUPPLEMENTARY INFORMATION:

1. Background

USTR is observing the relevant procedures of the Bipartisan Trade Promotion Authority Act of 2002 (19 U.S.C. 3804), which apply to agreements entered into before July 1, 2007, with respect to notifying and consulting with Congress regarding the TPP trade agreement negotiations. These procedures include providing Congress with 90 days advance written notice of the President's intent to enter into negotiations and consulting with appropriate Congressional committees regarding the negotiations. To that end, on December 14, 2009, after having consulted with relevant Congressional committees, the USTR notified Congress that the President intends to enter into negotiations of the agreement with the TPP countries with the objective of shaping a high-standard, 21st century agreement with a membership and coverage that provides economically significant market access opportunities for America's workers, farmers, ranchers, service providers, and small businesses. Our initial TPP negotiating partners include Australia, Brunei Darussalam, Chile, New Zealand, Peru, Singapore and Vietnam. The U.S. objective is to expand on this initial group to include additional countries throughout the Asia-Pacific region.

In addition, under the Trade Act of 1974, as amended (19 U.S.C. 2151, 2153), in the case of an agreement such as the proposed TPP trade agreement, the President must (i) afford interested persons an opportunity to present their views regarding any matter relevant to the proposed agreement, (ii) designate an agency or inter-agency committee to hold a public hearing regarding the proposed agreement, and (iii) seek the advice of the U.S. International Trade Commission (ITC) regarding the probable economic effects on U.S. industries and consumers of the removal of tariffs and non-tariff barriers on imports pursuant to the proposed agreement.

USTR held a public hearing regarding the proposed TPP trade agreement on March 4, 2009, and intends to hold additional public hearings on specific issues pertaining to the proposed negotiations in early 2010. In addition, USTR has requested the ITC to provide advice to USTR on the probable economic effects of an agreement.

2. Public Comments

The TPSC Chair invites interested parties to submit written comments to assist USTR as it develops its negotiating objectives for the proposed regional agreement. Comments may address the reduction or elimination of tariffs or non-tariff barriers on any articles provided for in the Harmonized Tariff Schedule of the United States (HTSUS) that are products of a TPP country, any concession that should be sought by the United States, or any other matter relevant to the proposed agreement. The TPSC Chair invites comments on all of these matters and, in particular, seeks comments addressed to:

(a) General and product-specific negotiating objectives for the proposed regional agreement.

(b) Economic costs and benefits to U.S. producers and consumers of removal of tariffs and removal or reduction in non-tariff barriers on articles traded with the seven TPP countries.

(c) Treatment of specific goods (described by HTSUS numbers) under the proposed regional agreement, including comments on—

(1) Product-specific import or export interests or barriers,

(2) Experience with particular measures that should be addressed in the negotiations, and

(3) Approach to tariff negotiations, including recommended staging and ways to address export priorities and import sensitivities in the context of this regional agreement.

(d) Adequacy of existing customs measures to ensure that imported goods originate from the TPP countries, and appropriate rules of origin for goods entering the United States under the proposed regional agreement.

(e) Existing sanitary and phytosanitary measures and technical barriers to trade imposed by any of the TPP countries that should be addressed in the negotiations.

(f) Existing barriers to trade in services between the United States and any of the TPP countries that should be addressed in the negotiations.

(g) Relevant electronic commerce issues that should be addressed in the negotiations.

(h) Relevant trade-related intellectual property rights issues that should be addressed in the negotiations.

(i) Relevant investment issues that should be addressed in the negotiations.

(j) Relevant competition-related matters that should be addressed in the negotiations.

(k) Relevant government procurement issues that should be addressed in the negotiations.

(l) Relevant environmental issues that should be addressed in the negotiations.

(m) Relevant labor issues that should be addressed in the negotiations.

In commenting on these matters, USTR invites interested parties to take into account the objective of expanding the TPP trade agreement to include other countries in the Asia-Pacific region.

In addition to the matters described above, USTR is considering addressing new and emerging issues in this regional agreement. Accordingly, the TPSC Chair invites comments on approaches that would promote innovation and competitiveness, encourage new technologies and emerging economic sectors, increase the participation of small- and medium-sized businesses in trade, and support the development of efficient production and supply chains that include U.S. firms in order to encourage firms to invest and produce in the United States. The TPSC Chair also invites comments on ways to address other trade-related priorities in this regional agreement, including environmental protection and conservation, transparency, workers rights and protections, development, and other issues. Finally, because the TPP trade agreement will be a regional agreement, the TPSC Chair also invites comments on ways to use the agreement to facilitate trade and promote regulatory coherence and cooperation within the region.

At a later date, USTR, through the TPSC, will publish notice of reviews regarding (a) the possible environmental effects of the proposed agreement and the scope of the U.S. environmental review of the proposed agreement, and (b) the impact of the proposed agreement on U.S. employment and labor markets.

3. Requirements for Submissions

Persons submitting comments must do so in English and must identify (on the first page of the submission) the “United States—Trans-Pacific Partnership Trade Agreement.” In order to be assured of consideration, comments should be submitted by January 25, 2010.

In order to ensure the timely receipt and consideration of comments, USTR strongly encourages commenters to make on-line submissions, using the http://www.regulations.gov Web site. Comments should be submitted under the following docket: USTR-2009-0041. To find the docket, enter the docket number in the “Enter Keyword or ID” window at the http://www.regulations.gov home page and click “Search.” The site will provide a search-results page listing all documents associated with this docket. Find a reference to this notice by selecting “Notices” under “Document Type” on the search-results page, and click on the link entitled “Submit a Comment.” (For further information on using the www.regulations.gov Web site, please consult the resources provided on the Web site by clicking on the “Help” tab.)

The http://www.regulations.gov Web site provides the option of making submissions by filling in a comments field, or by attaching a document. USTR prefers submissions to be provided in an attached document. If a document is attached, it is sufficient to type “See attached” in the “Type comment & Upload File” field. USTR prefers submissions in Microsoft Word (.doc) or Adobe Acrobat (.pdf). If the submission is in an application other than those two, please indicate the name of the application in the “Comments” field.

For any comments submitted electronically containing business confidential information, the file name of the business confidential version should begin with the characters “BC”. Any page containing business confidential information must be clearly marked “BUSINESS CONFIDENTIAL” on the top of that page. Filers of submissions containing business confidential information must also submit a public version of their comments. The file name of the public version should begin with the character “P”. The “BC” and “P” should be followed by the name of the person or entity submitting the comments or reply comments. Filers submitting comments containing no business confidential information should name their file using the character “P”, followed by the name of the person or entity submitting the comments.

Please do not attach separate cover letters to electronic submissions; rather, include any information that might appear in a cover letter in the comments themselves. Similarly, to the extent possible, please include any exhibits, annexes, or other attachments in the same file as the submission itself, not as separate files.

USTR strongly urges submitters to file comments through regulations.gov, if at all possible. Any alternative arrangements must be made with Ms. Blue in advance of transmitting a comment. Ms. Blue should be contacted at (202) 395-3475. General information concerning USTR is available at http://www.ustr.gov.

Carmen Suro-Bredie,
Chair, Trade Policy Staff Committee.

[FR Doc. E9-29841 Filed 12-15-09; 8:45 am]

BILLING CODE 3190-W0-P